DEPARTMENT OF ENERGY

Federal Energy Regulatory Commission

Combined Notice of Filings

February 4, 2009.

Take notice that the Commission has received the following Natural Gas Pipeline Rate and Refund Report filings:

Docket Numbers: RP02-534-012.

Applicants: Guardian Pipeline, L.L.C.

Description: Guardian Pipeline, LLC submits Substitute First Revised Sheet 9A to its FERC Gas Tariff, Original Volume 1, to be effective 1/1/09.

Filed Date: 01/20/2009.

Accession Number: 20090123-0379.

Comment Date: 5 p.m. Eastern Time on Monday, February 9, 2009.

Docket Numbers: RP02-534-013.

Applicants: Guardian Pipeline, L.L.C.

Description: Guardian Pipeline, LLC submits Second Revised Sheet 9A to FERC Gas Tariff, Original Volume 1, to be effective 3/1/09.

Filed Date: 01/30/2009.

Accession Number: 20090203-0212.

Comment Date: 5 p.m. Eastern Time on Wednesday, February 11, 2009.

Docket Numbers: RP09-61-003.

Applicants: Gulf Crossing Pipeline Company LLC.

Description: Gulf Crossing Pipeline Company LLC submits Amendments to Interim Negotiated Rate Agreements.

Filed Date: 01/30/2009.

Accession Number: 20090203-0020.

Comment Date: 5 p.m. Eastern Time on Wednesday, February 11, 2009.

Docket Numbers: RP96-383-091.

Applicants: Dominion Transmission, Inc.

Description: Dominion Transmission, Inc. submits Fifteenth Revised Sheet 1405 to FERC Gas Tariff, Third Revised Volume 1, to be effective 2/1/09.

Filed Date: 01/30/2009.

Accession Number: 20090203-0016.

Comment Date: 5 p.m. Eastern Time on Wednesday, February 11, 2009.

Docket Numbers: RP97-13-035.

Applicants: East Tennessee Natural Gas, LLC.

Description: East Tennessee Natural Gas, LLC submits First Revised Sheet 35 et al., to FERC Gas Tariff, Third Revised Volume 1, to be effective 2/1/09.

Filed Date: 01/30/2009.

Accession Number: 20090203-0211.

Comment Date: 5 p.m. Eastern Time on Wednesday, February 11, 2009.

Docket Numbers: RP99-518-109.

Applicants: Gas Transmission Northwest Corporation.

Description: Gas Transmission Northwest Corporation submits Seventeenth Revised Sheet 24 et al., to FERC Gas Tariff, Third Revised Volume 1-A, to be effective 2/1/09.

Filed Date: 01/30/2009.

Accession Number: 20090203-0012.

Comment Date: 5 p.m. Eastern Time on Wednesday, February 11, 2009.

Docket Numbers: RP09-314-000.

Applicants: Southern LNG Inc.

Description: Southern LNG Inc submits Twenty-Third Revised Sheet 5 et al., to its FERC Gas Tariff, Original Volume 1.

Filed Date: 01/30/2009.

Accession Number: 20090203-0017.

Comment Date: 5 p.m. Eastern Time on Wednesday, February 11, 2009.

Docket Numbers: RP09-316-000.

Applicants: Southern Natural Gas Company.

Description: Southern Natural Gas Company submits Thirteenth Revised Sheet 26 et al., to its FERC Gas Tariff, Seventh Revised Volume 1, to be effective 3/1/09.

Filed Date: 01/30/2009.

Accession Number: 20090203-0018.

Comment Date: 5 p.m. Eastern Time on Wednesday, February 11, 2009.

Docket Numbers: RP09-322-000.

Applicants: Chandeleur Pipe Line Company.

Description: Chandeleur Pipe Line Company submits First Revised Sheet 2A et al., to FERC Gas Tariff, Second Revised Volume 1, to be effective 3/2/09.

Filed Date: 01/30/2009.

Accession Number: 20090203-0011.

Comment Date: 5 p.m. Eastern Time on Wednesday, February 11, 2009.

Docket Numbers: RP09-323-000.

Applicants: Gulf South Pipeline Company, LP.

Description: Gulf South Pipeline Company, LP submits First Revised Sheet 28 to FERC Gas Tariff, Original Volume 2.

Filed Date: 02/02/2009.

Accession Number: 20090203-0095.

Comment Date: 5 p.m. Eastern Time on Tuesday, February 17, 2009.

Docket Numbers: RP09-324-000.

Applicants: National Fuel Gas Supply Corporation.

Description: National Fuel Gas Supply Corporation submits One Hundred Twenty Fourth Revised Sheet 9 to FERC Gas Tariff, Fourth Revised Volume 1.

Filed Date: 01/30/2009.

Accession Number: 20090203-0096.

Comment Date: 5 p.m. Eastern Time on Wednesday, February 11, 2009.

Docket Numbers: RP09-325-000.

Applicants: CenterPoint Energy Gas Transmission Company.

Description: CenterPoint Energy Gas Transmission Company submits Fifth Revised Sheet 604 to FERC Gas Tariff, Sixth Revised Volume 1.

Filed Date: 01/30/2009.

Accession Number: 20090203-0097.

Comment Date: 5 p.m. Eastern Time on Wednesday, February 11, 2009.

Docket Numbers: RP09-326-000.

Applicants: EQUITRANS, LP.

Description: Equitrans, LP submits Thirteenth Revised Sheet 11 to FERC Gas Tariff, Original Volume 1.

Filed Date: 01/30/2009.

Accession Number: 20090203-0098.

Comment Date: 5 p.m. Eastern Time on Wednesday, February 11, 2009.

Docket Numbers: RP09-327-000.

Applicants: Iroquois Gas Transmission System, L.P.

Description: Iroquois Gas Transmission System, LP submits Ninth Revised Sheet 8 et al., to FERC Gas Tariff, First Revised Volume 1.

Filed Date: 01/30/2009.

Accession Number: 20090203-0099.

Comment Date: 5 p.m. Eastern Time on Wednesday, February 11, 2009.

Docket Numbers: RP09-328-000.

Applicants: Garden Banks Gas Pipeline, LLC.

Description: Garden Banks Gas Pipeline, LLC submits Second Revised Sheet 104 et al., to FERC Gas Tariff, Original Volume 1.

Filed Date: 01/30/2009.

Accession Number: 20090203-0100.

Comment Date: 5 p.m. Eastern Time on Wednesday, February 11, 2009.

Docket Numbers: RP09-329-000.

Applicants: Mississippi Canyon Gas Pipeline, LLC.

Description: Mississippi Canyon Gas Pipeline, LLC submits First Revised Sheet 120 et al., to FERC Gas Tariff, First Revised Volume 1, to be effective 3/1/09.

Filed Date: 01/30/2009.

Accession Number: 20090203-0101.

Comment Date: 5 p.m. Eastern Time on Wednesday, February 11, 2009.

Docket Numbers: RP09-330-000.

Applicants: Nautilus Pipeline Company, L.L.C.

Description: Nautilus Pipeline Company, LLC submits Fifth Revised Sheet 174 et al., to FERC Gas Tariff, Original Volume 1.

Filed Date: 01/30/2009.

Accession Number: 20090203-0102.

Comment Date: 5 p.m. Eastern Time on Wednesday, February 11, 2009.

Docket Numbers: RP09-331-000.

Applicants: Stingray Pipeline Company, L.L.C.

Description: Stingray Pipeline Company, LLC submits Sixth Revised Sheet 148 et al., to FERC Gas Tariff, Third Revised Volume 1.

Filed Date: 01/30/2009.

Accession Number: 20090203-0103.

Comment Date: 5 p.m. Eastern Time on Wednesday, February 11, 2009.

Docket Numbers: RP09-333-000.

Applicants: Enbridge Offshore Pipelines (UTOS) LLC.

Description: Enbridge Offshore Pipelines LLC submits Second Revised Sheet 141 et al., to FERC Gas Tariff, Fifth Revised Volume 1.

Filed Date: 01/30/2009.

Accession Number: 20090203-0105.

Comment Date: 5 p.m. Eastern Time on Wednesday, February 11, 2009.

Docket Numbers: RP09-334-000.

Applicants: Chandeleur Pipe Line Company.

Description: Chandeleur Pipe Line Company requests temporary waivers of certain tariff provisions and Commission Regulations for February 20 and 21, 2009.

Filed Date: 01/30/2009.

Accession Number: 20090203-0106.

Comment Date: 5 p.m. Eastern Time on Wednesday, February 11, 2009.

Docket Numbers: RP09-335-000.

Applicants: Sabine Pipe Line LLC.

Description: Sabine Pipe Line LLC submits request for temporary waivers of tariff provisions and Commission Regulations.

Filed Date: 01/30/2009.

Accession Number: 20090203-0107.

Comment Date: 5 p.m. Eastern Time on Wednesday, February 11, 2009.

Docket Numbers: RP09-336-000.

Applicants: Enbridge Pipelines (AlaTenn), L.L.C.

Description: Enbridge Pipelines, LLC submits First Revised Sheet 130 et al., to FERC Gas Tariff, Fourth Revised Volume 1, to be effective 3/1/09.

Filed Date: 01/30/2009.

Accession Number: 20090203-0108.

Comment Date: 5 p.m. Eastern Time on Wednesday, February 11, 2009.

Docket Numbers: RP09-337-000.

Applicants: Eastern Shore Natural Gas Company.

Description: Eastern Shore Natural Gas Company submits Second Revised Sheet 92 et al., to FERC Gas Tariff, Second Revised Volume 1.

Filed Date: 02/02/2009.

Accession Number: 20090203-0215.

Comment Date: 5 p.m. Eastern Time on Tuesday, February 17, 2009.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-2860 Filed 2-10-09; 8:45 am]

BILLING CODE 6717-01-P